ENVIRONMENTAL PROTECTION AGENCY

[FRL-7915-5]

Availability of FY 04 Grant Performance Reports for States of Alabama, Florida, Georgia, Kentucky, Mississippi, North Carolina, South Carolina, Tennessee; All Local Agencies Within the States of Alabama, Florida, Kentucky, North Carolina and Tennessee

AGENCY: Environmental Protection Agency (EPA).

ACTION: Notice of availability of grantee performance evaluation reports.

SUMMARY: EPA's grant regulations (40 CFR 35.115) require the Agency to evaluate the performance of agencies which receive grants. EPA's regulations for regional consistency (40 CFR 56.7) require that the Agency notify the public of the availability of the reports of such evaluations. EPA performed end-of-year evaluations of 8 state air pollution control programs (Alabama Department of Environmental Management; Florida Department of Environmental Protection; Georgia Department of Natural Resources; Kentucky Environmental & Public Protection Cabinet; Mississippi Department of Environmental Quality; North Carolina Department of Environment and Natural Resources; South Carolina Department of Health and Environmental Control; and Tennessee Department of Environment and Conservation) and 16 local programs (City of Huntsville Division of Natural Resources, AL; Jefferson County Department of Health, AL; Broward County Environmental Protection Department, FL; City of Jacksonville Environmental Quality Division, FL; Hillsborough County Environmental Protection Commission, FL; Miami-Dade County Air Quality Management Division, FL; Palm Beach County Health Department Division of Environmental Health, FL; Pinellas County Department of Environmental Management, FL; Louisville Metro Air Pollution Control District, KY; Forsyth County Environmental Affairs Department, NC; Mecklenburg County Land Use and Environmental Services Agency, NC; Western North Carolina Regional Air Quality Agency, NC; Chattanooga-Hamilton County Air Pollution Control Bureau, TN; Knox County Department of Air Quality Management, TN; Memphis-Shelby County Health Department, TN and Nashville-Davidson County Metropolitan Public Health Department, TN). The 24 evaluations were conducted to assess the agencies' performance under the grants awarded by EPA under authority of section 105 of the Clean Air Act. EPA Region 4 has prepared reports for each agency identified above and these reports are now available for public inspection.

ADDRESSES: The reports may be examined at the EPA's Region 4 office, 61 Forsyth Street, SW., Atlanta, Georgia 30303, in the Air, Pesticides, and Toxics Management Division.

FOR FURTHER INFORMATION CONTACT: Marie Persinger (404) 562-9048 for information concerning the State and local agencies of Alabama; Miya Smith (404) 562-9091 for the State and local agencies of Florida, Sean Flynn (404) 562-9064 for the State of Mississippi and for the State and local agency of Kentucky; Mary Echols (404) 562-9053 for the State of Georgia and for the State and local agencies of North Carolina; and Rayna Brown (404) 562-9093 for the State of South Carolina and for the State and local agencies of Tennessee. They may be contacted at the above Region 4 address.

Dated: May 10, 2005.
A. Stanley Meiburg,
Deputy Regional Administrator, Region 4.

[FR Doc. 05-10146 Filed 5-19-05; 8:45 am]

BILLING CODE 6560-50-P